COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be furnished by nonprofit agency employing persons who are blind or have other severe disabilities and to delete products and service previously furnished by such agencies.

Comments Must Be Received on or Before: 3/30/2015.

ADDRESSES: Committee for Purchase From People Who Are Blind or Severely Disabled, 1401 S. Clark Street, Suite 715, Arlington, Virginia 22202-4149.

For Further Information or To Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed addition, the entity of the Federal Government identified in this notice will be required to procure the service listed below from a nonprofit agency employing persons who are blind or have other severe disabilities.

The following service is proposed for addition to the Procurement List for production by the nonprofit agency listed:

Service

Service Type: Mail Service.

Service is Mandatory for: U.S. Air Force, Official Mail Center & Postal Service Center, 740 Arnold Avenue, Suite 1B, Whiteman AFB, MO.

Mandatory Source of Supply: Anthony Wayne Rehabilitation Ctr for Handicapped and Blind, Inc., Fort Wayne, IN.

Contracting Activity: Dept of the Air Force, FA4890 ACC AMIC, Newport News, VA.

Deletions

The following products and service are proposed for deletion from the Procurement List:

Products

NSN: 8345-00-NSH-0013—Case, Flag, Hardwood.

NSN: 8345-00-NSH-0014—Case, Flag, Hardwood.

Previous Manadatory Source: None Identified.

Was Manadatory for: U.S. Fleet Forces Command, Norfolk, VA.

NSN: 7530-01-498-1089—Envelope, Inter-Departmental, Red Kraft.

NSN: 7530-01-498-1088—Envelope, Inter-Departmental, Yellow Kraft.

NSN: 7530-01-498-1086—Envelope, Inter-Departmental, Blue Kraft.

NSN: 7530-01-463-3910—Envelope, Inter-Departmental, 5-column, 100% recycled.

NSN: 7530-01-463-3909—Envelope, Inter-Departmental, 3-column.

NSN: 7530-01-463-3908—Envelope, Inter-Departmental, 5-column.

Previous Manadatory Source: Gateway Community Industries, Inc., Kingston, NY.

NSN: 7510-01-558-6166—HP C4092A compatible.

NSN: 7510-00-NIB-0641—Skilcraft Toner Cartridge.

Previous Manadatory Source: Alabama Industries for the Blind, Talladega, AL.

NSN: 7530-00-989-0698—Card Set, Guide, File, Pressboard, Alphabetical, 1/5 Cut, Light Green, 8½″ x 11″.

Previous Manadatory Source: Georgia Industries for the Blind, Bainbridge, GA.

Was Mandatory for: General Services Administration, New York, NY.

Service

Service Type: Grounds Maintenance.

Service is Mandatory for: Oakland Army Base and Naval Supply Center, Oakland, CA.

Previous Manadatory Source Rubicon Programs, Inc., Richmond, CA.

Was Mandatory for: Dept of the Navy, U.S. Fleet Forces Command, Norfolk, VA.

Patricia Briscoe,
Deputy Director, Business Operations (Pricing and Information Management).

[FR Doc. 2015-04096 Filed 2-26-15; 8:45 am]

BILLING CODE 6353-01-P